DEPARTMENT OF THE INTERIOR

National Park Service

[NPS-WASO-NRNHL-DTS#-31404; PPWOCRADI0, PCU00RP14.R50000]

National Register of Historic Places; Notification of Pending Nominations and Related Actions

AGENCY: National Park Service, Interior.

ACTION: Notice.

SUMMARY: The National Park Service is soliciting electronic comments on the significance of properties nominated before January 16, 2021, for listing or related actions in the National Register of Historic Places.

DATES: Comments should be submitted electronically by February 16, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before January 16, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

DISTRICT OF COLUMBIA

District of Columbia

Annie's Paramount Steakhouse, 1519 and 1609-1611 17th St. NW, Washington, SG100006178

GEORGIA

Fulton County

Sperry & Hutchinson Company Warehouse, 2181 Sylvan Rd., East Point, SG100006164

IOWA

Henry County

Schantz, Christian K. and Margaret (Rich), House and Carpentry Shop, 116 West 2nd St., Wayland, SG100006173

Scott County

WOC Broadcasting Center, 805 Brady St., Davenport, SG100006171

MISSISSIPPI

Hinds County

Falk, Meyer and Genevieve, House, 2037 Eastbourne Pl., Jackson, SG100006163

Lafayette County

Abbeville Colored School, West side of Cty. Rd, 115, Abbeville vicinity, SG100006175

MISSOURI

Cole County

J.B. Bruns Shoe Co. Building, 627 West McCarty St., Jefferson City, SG100006167

St. Louis Independent City

Goodwill Building, 4140 Forest Park Ave., St. Louis, SG100006165

OHIO

Allen County

J.M. Sealts Company Warehouse Building, The 330 North Central Ave., Lima, SG100006179

PENNSYLVANIA

Allegheny County

Riverview Park, Roughly bounded by Woods Run Ave., Mairdale Ave., Perrysville Ave., and Kilbuck St., Pittsburgh, SG100006181

VERMONT

Bennington County

Norton, Julius and Sophia, House, 300 Pleasant St., Bennington, SG100006180

VIRGINIA

Lunenburg County

Woodburn, 673 Meherrin River Rd., Chase City vicinity, SG100006177

Williamsburg Independent City

College Terrace Historic District, 600 and 700 blks. of College Ter. and Richmond Rd., Williamsburg, SG100006176

Additional documentation has been received for the following resources:

IOWA

Clayton County

McGregor Commercial Historic District (Additional Documentation), (Iowa's Main Street Commercial Architecture MPS), A and 1st Sts. between Main and intersection of A and 1st Sts., McGregor, AD02001033

Keokuk County

Saints Peter and Paul Roman Catholic Church Historic District (Additional Documentation), 30748-30832 242nd St., Harper vicinity, AD86002277

A request for removal has been made for the following resource:

NEVADA

Elko County

Lamoille Organization Camp, Right Fork of Lamoille Creek, end of FS Rd. 122, Ruby Mountains Ranger District, Humboldt—Toiyabe NF, Lamoille vicinity, OT07000553

Authority: Section 60.13 of 36 CFR part 60.

Dated: January 21, 2021.
Sherry A. Frear,
Chief, National Register of Historic Places/National Historic Landmarks Program.

[FR Doc. 2021-02056 Filed 1-29-21; 8:45 am]

BILLING CODE 4312-52-P